DEPARTMENT OF AGRICULTURE

Animal and Plant Health Inspection Service

[Docket No. APHIS-2013-0052]

Notice of Availability of a Pest Risk Analysis for the Importation of Swiss Chard From Colombia Into the Continental United States

AGENCY: Animal and Plant Health Inspection Service, USDA.

ACTION: Notice of availability.

SUMMARY: We are advising the public that we have prepared a pest risk analysis that evaluates the risks associated with the importation of Swiss chard from Colombia into the continental United States. Based on that analysis, we have concluded that the application of one or more designated phytosanitary measures will be sufficient to mitigate the risks of introducing or disseminating plant pests or noxious weeds via the importation of Swiss chard from Colombia. We are making the pest risk analysis available to the public for review and comment.

DATES: We will consider all comments that we receive on or before September 6, 2013.

ADDRESSES: You may submit comments by either of the following methods:

• Federal eRulemaking Portal: Go to http://www.regulations.gov/#!documentDetail;D=APHIS-2013-0052-0001.

• Postal Mail/Commercial Delivery: Send your comment to Docket No. APHIS-2013-0052, Regulatory Analysis and Development, PPD, APHIS, Station 3A-03.8, 4700 River Road Unit 118, Riverdale, MD 20737-1238.

Supporting documents and any comments we receive on this docket may be viewed at http://www.regulations.gov/#!docketDetail;D=APHIS-2013-0052 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Ms. Dorothy Wayson, Senior Regulatory Policy Specialist, Plant Health Programs, PPQ, APHIS, 4700 River Road Unit 133, Riverdale, MD 20737-1231; (301) 851-2036.

SUPPLEMENTARY INFORMATION:

Background

Under the regulations in “Subpart—Fruits and Vegetables” (7 CFR 319.56-1 through 319.56-58), the Animal and Plant Health Inspection Service (APHIS) prohibits or restricts the importation of fruits and vegetables into the United States from certain parts of the world to prevent the introduction and dissemination of plant pests that are new to or not widely distributed within the United States.

Section 319.56-4 contains a performance-based process for approving the importation of commodities that, based on the findings of a pest risk analysis, can be safely imported subject to one or more of the designated phytosanitary measures listed in paragraph (b) of that section.

APHIS received a request from the Government of Colombia to allow the importation of Swiss chard (Beta vulgaris ssp. cicla (L.) Koch) into the United States. Currently, Swiss chard is not authorized for entry from Colombia. We completed a pest risk assessment (PRA) to identify pests of quarantine significance that could follow the pathway of importation if such imports were to be allowed. Based on the PRA, we then completed a risk management document (RMD) to identify phytosanitary measures that could be applied to mitigate the risks of introducing or disseminating the identified pests via the importation of Swiss chard from Colombia. We have concluded that Swiss chard can safely be imported into the continental United States from Colombia using one or more of the five designated phytosanitary measures listed in § 319.56-4(b). These measures are that:

• Swiss chard may be imported into the continental United States in commercial consignments only;

• The Swiss chard is subject to inspection at the port of entry; and

• The Swiss chard must be accompanied by a phytosanitary certificate issued by the national plant protection organization of Colombia with an additional declaration stating that the consignment was inspected and found free of Copitarsia incommoda and Liriomyza huidobrensis.

Therefore, in accordance with § 319.56-4(c), we are announcing the availability of our PRA and RMD for public review and comment. The PRA and RMD may be viewed on the Regulations.gov Web site or in our reading room (see ADDRESSES above for instructions for accessing Regulations.gov and information on the location and hours of the reading room). You may also request paper copies of the PRA and RMD by calling or writing to the person listed under FOR FURTHER INFORMATION CONTACT. Please refer to the subject of the analysis that you wish to review when requesting copies.

After reviewing any comments we receive, we will announce our decision regarding the import status of Swiss chard from Colombia in a subsequent notice. If the overall conclusions of the analysis and the Administrator's determination of risk remain unchanged following our consideration of the comments, then we will authorize the importation of Swiss chard from Colombia into the continental United States subject to the requirements specified in the RMD.

Authority: 7 U.S.C. 450, 7701-7772, and 7781-7786; 21 U.S.C. 136 and 136a; 7 CFR 2.22, 2.80, and 371.3.

Done in Washington, DC, this 1st day of July 2013.
Kevin Shea,
Administrator, Animal and Plant Health Inspection Service.

[FR Doc. 2013-16207 Filed 7-5-13; 8:45 am]

BILLING CODE 3410-34-P